DEPARTMENT OF STATE

[Public Notice: 12125]

Determination Pursuant to the Migration and Refugee Assistance Act of 1962

Pursuant to section 2(b)(2) of the Migration and Refugee Assistance Act of 1962 (the Act) (22 U.S.C. 2601(b)(2)), Presidential Determination Number 99-6 of November 30, 1998, and Department of State Delegation 513, I hereby designate stateless persons in Botswana, Cameroon, Central African Republic, Chad, Comoros, Italy, the Gambia, Nigeria, Mauritius, Mozambique, Panama, Pakistan, Seychelles, South Africa, and Türkiye as qualifying for assistance under section 2(b)(2) of the Act, and determine that such assistance will contribute to the foreign policy interests of the United States. This determination shall be transmitted to the President and published in the Federal Register.

Richard Verma,
Deputy Secretary of State for Management and Resources, Department of State.

[FR Doc. 2023-17596 Filed 8-15-23; 8:45 am]

BILLING CODE 4710-33-P